DEPARTMENT OF TRANSPORTATION

Pipeline and Hazardous Materials Safety Administration

Office of Hazardous Materials Safety; Notice of Applications for Modification of Special Permit.

AGENCY: Pipeline and Hazardous Materials Safety Administration (PHMSA), DOT.

ACTION: List of Applications for Modification of Special Permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g., to provide for additional hazardous materials, packaging design changes, additional mode of transportation, etc.) are described in footnotes to the application number. Application numbers with the suffix “M” denote a modification request. There applications have been separated from the new application for special permits to facilitate processing.

DATES: Comments must be received on or before May 4, 2007.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the application are available for inspection in the Records Center, Nassif Building, 400 7th Street, SW., Washington, DC or at http://dms.dot.gov.

This notice of receipt of applications for modification of special permit is published in accordance with Part 107 of the Federal hazardous materials transportation law (49 U.S.C. 5117(b); 49 CFR 1.53(b)).

Issued in Washington, DC, on April 12, 2007.
Delmer Billings,
Director, Special Permits & Approvals Programs, Office of Hazardous Materials, Special Permits & Approvals.

Modification Special Permits
Application number | Docket number | Applicant | Regulation(s) affected | Nature of special permit thereof
10698-M |  | Worthington Cylinders—Wisconsin (formerly Western Industries, Inc.) Chilton, WI | 49 CFR 173.304(a)(2); 178.50 | To modify the special permit to authorize charging of the cylinders with an additional Division 2.2 gas.
11215-M |  | Orbital Sciences Corporation, Mojave, CA | 49 CFR Part 172, Subparts C, D; 172.101, Special Provision 109 | To modify the special permit to authorize the transportation in commerce of additional Division 1.4B, 1.4C explosives and Division 2.2 gases and to establish alternative landing sites.
12222-M |  | iSi GmbH A-1217, Vienna | 49 CFR 173.304(a)(2) | To modify the special permit to authorize the transportation in commerce of DOT 39 Specification cylinders, containing a Division 2.2 gas, with a filling density maximum of 75% Carbon Dioxide.
12274-M |  | Snow Peak, Inc, Clackamas, OR | 49 CFR 172.301, 173.302a(b)(2), (b)(3) and (b)(4); 180.205(c) and (g) and 180.209(a) | To modify the special permit to authorize larger non-DOT specification nonrefillable inside containers.
12399-M |  | BOC Gases, Murray Hill, NJ | 49 CFR 173.34(e)(1); 173.34(e)(3); 173.34(e)(4); 173.34(e)(8); 173.34(e)(14); 173.34(e)(15)(vi) | To modify the special permit to authorize removal of a test procedure for cylinders no longer in use by the applicant.
14172-M |  | Pacific Bio-Material Management, Inc. d/b/a Pacific Scientific Transport, Fresno, CA | 49 CFR 173.196 and 173.199 | To modify the special permit to authorize additional customers outside of the current radius specified in the permit, to allow more than two freezers on each dedicated transport vehicle and to authorize more than seven shipments per year.
14393-M |  | Hamilton Sundstrand, Windsor Locks, CT | 49 CFR 173.30(e)(iii), (iv), (v) and (vi); 173.307(a)(4)(iv) | To modify the special permit to authorize an increase in the maximum size of the cylinders integrated in the cooling unit.
14396-M |  | Matheson Tri-Gas, Parsippany, NJ | 49 CFR 173.192(a) | To modify the special permit to authorize an additional Division 2.3 material to be transported in certain DOT specification and non-DOT specification cylinders not normally authorized for cargo vessel transportation, for export only.
14418-M |  | Department of Defense, Ft. Eustis, VA | 49 CFR 172.301; 172.400; 172.504(a) | To reissue the special permit originally issued on an emergency basis for the transportation in commerce of a water reactive material in special packaging as Unitized Group Ration—Express (UGR-E) without being subject to Subchapter C of the Hazardous Materials Regulations.
14447-M |  | California Tank Lines, Inc., Stockton, CA | 49 CFR 177.834 | To modify the special permit to authorize the unloading of DOT Specification MC 330 and 331 while the hose is still attached.
14476-M |  | BP Products North America, Inc. (formerly BP Amoco Oil), Texas City, TX | 49 CFR 173.202, 173.203, 173.312, and 173.213 | To reissue the special permit originally issued on an emergency basis for the transportation in commerce of certain hazardous materials in non-DOT specification heat exchanger pressure vessels and heat exchanger tube bundles.
14488-M |  | Sanofi Pasteur, Swiftwater, PA | 49 CFR 173.24(b)(1) | To reissue the special permit originally issued on an emergency basis for the transportation in commerce of an influenza vaccine in a custom stainless steel batch reactor at a constant pressure of 1-5 psig by use of a cylinder feeding air into the reactor.

[FR Doc. 07-1933 Filed 4-18-07; 8:45 am]

BILLING CODE 4909-60-M